DEPARTMENT OF TRANSPORTATION

Federal Aviation Administration

14 CFR Part 39

[Docket No. FAA-2013-0972; Directorate Identifier 2002-NM-009-AD]

RIN 2120-AA64

Airworthiness Directives; Airbus Airplanes

AGENCY: Federal Aviation Administration (FAA), Department of Transportation (DOT).

ACTION: Proposed rule; withdrawal.

SUMMARY: The FAA withdraws a notice of proposed rulemaking (NPRM) that proposed a new airworthiness directive (AD) for all Airbus Model A330 series airplanes. The NPRM would have required replacement of the elevator servo-controls with new servo-controls when the existing parts have reached their operational life limit. Since the NPRM was issued, we have determined that more restrictive maintenance requirements and airworthiness limitations are necessary and that NPRM does not adequately address the identified unsafe condition. Accordingly, the NRPM is withdrawn.

DATES: As of November 20, 2013, the proposed rule, which was published in the Federal Register on September 18, 2003, (68 FR 54694), is withdrawn.

ADDRESSES: You may examine the AD docket on the Internet at http://www.regulations.gov; or in person at the Docket Management Facility between 9 a.m. and 5 p.m., Monday through Friday, except Federal holidays. The AD docket contains this AD action, the NPRM (68 FR 54694, September 18, 2003), the Mandatory Continuing Airworthiness Information (MCAI), the regulatory evaluation, any comments received, and other information. The address for the Docket Office (phone: 800-647-5527) is the Document Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

We proposed to amend part 39 of the Federal Aviation Regulations (14 CFR part 39) with a notice of proposed rulemaking (NPRM) for a new AD for all Airbus Model A330 series airplanes. The NPRM, FAA Docket No. FAA-2013-0972, Directorate Identifier 2002-NM-009-AD identified as the “Directorate Identifier” in this AD action), was published in the Federal Register on September 18, 2003 (68 FR 54694). The NPRM proposed to correct an unsafe condition for the specified products.

The Direction Générale de l'Aviation Civile (DGAC), which is the aviation authority for France, issued French Airworthiness Directive 2001-545(B) R1, dated October 16, 2002 (referred to after this as “the MCAI”), to correct an unsafe condition for the specified products. The MCAI states:

The operational life limits of the aircraft servo-controls, and in particular of the elevator servo-controls given in the Revision 8 of AMM Chapter 05-11-00 Configuration 1 (dated September 15, 1999) are not addressed by the definition of the structural life limits of Safe Life items as defined in Section 9.1 (Life limits/Monitored parts) of the Airworthiness Limitations Section (located in the MPD Section 9) which replaces the aircraft AMM Chapter 05-11. As a result these life limits are removed from the above documents and integrated into this [French] Airworthiness Directive (AD).

In addition, this [French] AD restates the life limits requirements of AD 95-032-008(B) R1, and introduces provisional operational life limits for P/N's SC-4800-7A and SC-4800-9.

The aim of this [French] AD is to require the removal and replacement of the servo-controls when they have reached their operational life limits.

The Revision 1 of this [French] AD aims to increase the operational life limit in active mode of Elevator Servo-controls P/N SC4800 listed in paragraph COMPLIANCE 3.2.3. of this [French] AD, following new test results demonstrating a provisional life of 40,000 cycles and to remove reference of P/N SC4800-2 amendments A, B, C, D, E, F or G and SC4800-4 amendment H which are not anymore in service under this identification.

The NPRM (68 FR 54694, September 18, 2003) resulted from reports of cracking in the end caps and along the barrel on elevator servo-controls that exceeded their operational life limits, which could lead to hydraulic leakage and internal damage within the servo-control. The proposed actions were intended to prevent hydraulic leakage and internal damage of the elevator servo-controls due to cracks in the end caps and along the barrel, which could result in a reduction in the elevator's protection against vibration or loss of the hydraulic circuit, and consequent reduced controllability of the airplane. You may obtain further information by examining the MCAI in the AD docket.

Actions Since NPRM (68 FR 54694, September 18, 2003) Was Issued

Since we issued the NPRM (68 FR 54694, September 18, 2003), we have determined that more restrictive maintenance requirements and airworthiness limitations are necessary to adequately address the identified unsafe condition. French Airworthiness Directive 2001-545(B) R1, dated October 16, 2002, was superseded by The European Aviation Safety Agency (EASA) Airworthiness Directive 2012-0020, dated January 30, 2012, which mandates the use of Airbus A330 Airworthiness Limitations Section (ALS) Part 4—Aging Systems Maintenance, Revision 03, dated September 9, 2011. The replacement requirements and thresholds for parts originally defined in the NPRM are now contained in Airbus A330 ALS Part 4—Aging Systems Maintenance, Revision 03, dated September 9, 2011. We have issued NPRM Docket No. FAA-2013-0834, Directorate Identifier 2012-NM-045-AD (78 FR 66861, November 7, 2013), which corresponds to EASA Airworthiness Directive 2012-0020, dated January 30, 2012. The NPRM, FAA Docket No. FAA-2013-0834, Directorate Identifier 2012-NM-045-AD, applies to certain Airbus Model A330 and A340 series airplanes and proposes to mandate the requirements now contained in Airbus A330 ALS Part 4—Aging Systems Maintenance, Revision 03, dated September 9, 2011.

Comments

We gave the public the opportunity to participate in developing this AD. We received no comments on the NPRM (68 FR 54694, September 18, 2003) or on the determination of the cost to the public.

FAA's Conclusions

Upon further consideration, we have determined that more restrictive maintenance requirements and airworthiness limitations are necessary to adequately address the unsafe condition identified in the NPRM (68 FR 54694, September 18, 2003), and that additional rulemaking is necessary. Accordingly, the NPRM is withdrawn.

Withdrawal of the NPRM (68 FR 54694, September 18, 2003) does not preclude the FAA from issuing another related action or commit the FAA to any course of action in the future.

Regulatory Impact

Since this action only withdraws an NPRM (68 FR 54694, September 18, 2003), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2013-0972, Directorate Identifier 2002-NM-009-AD, which published in the Federal Register on September 18, 2003 (68 FR 54694).

Issued in Renton, Washington, on September 24, 2013.
Jeffrey E. Duven,
Acting Manager, Transport Airplane Directorate, Aircraft Certification Service.

[FR Doc. 2013-27839 Filed 11-19-13; 8:45 am]

BILLING CODE 4910-13-P